DEPARTMENT OF ENERGY

Federal Energy Regulatory Commission

Notice of Application Tendered for Filing With the Commission

March 9, 2001.

Take notice that the following hydroelectric application has been filed with the Commission and is available for public inspection:

a. Type of Application: Major New (Non-power) License.

b. Project No.: 2852-015.

c. Dated Filed: February 27, 2001.

d. Applicant: New York State Electric & Gas Corporation

e. Name of Project: Keuka.

f. Location: Project is located on the Waneta and Lamoka Lakes, Keuka Lake, and Mud Creek, in Steuben and Schuyler Counties, New York. Project would not utilize any federal lands or facilities.

g. Filed Pursuant to: Federal Power Act 16 U.S.C. 791(a)-825(r).

h. Applicant Contact: Mr. Robert L. Malecki, Manager Licensing & Environmental Operations, New York State Electric & Gas Corporation Corporate Drive, Kirkwood Industrial Park, Binghamton, NY 13902, (607) 762-7763.

Ms. Carol Howland, Project Environmental Specialist, New York State Electric & Gas Corporation, Corporate Drive, Kirkwood Industrial Park, Binghamton, NY 13902, (607) 762-8881.

i. FERC Contact: Any questions on this notice should be addressed to William Guey-Lee, E-mail address william.gueylee@ferc.fed.us, or telephone (202) 219-2808.

j. Status of Environmental Review: This application is not ready for environmental analysis at this time.

k. Description of Project: The project consists of the following: (1) The Bradford Dam with an overall length of about 580 feet and crest elevation of 1,099 feet msl, consisting of a concrete section, earthen embarkments, outlet works, and spillway; (2) Waneta and Lamoka Lakes with surface areas of 781 acres and 826 acres at election 1,099 feet msl, and total storage of 27,200 acre-feet; (3) a 9,300-foot-long power canal having an average width of 48 feet and an average depth of 3 feet; (4) a twin gated concrete box culvert, known as Wayne Gates, measuring 8 feet high by 6 feet wide; and (5) a 70-foot-long by 16-foot-high headgate structure. Under the non-power license, the 3,450-foot-long, 4-foot-diameter concrete penstock, the 835-foot-long, 42-inch-diameter steel penstock, and the 2.0-MW generating unit would be removed.

l. Locations of the application: A copy of the application is available for inspection and reproduction at the Commission's Public Reference Room, located at 888 First Street, NE, Room 2A, Washington, DC 20426, or by calling (202) 208-1371. The application may be viewed on the web at www.ferc.fed.us. Call (202) 208-2222 for assistance. A copy is also available for inspection and reproduction at the address in item h above.

David P. Boergers,
Secretary.

[FR Doc. 01-6426 Filed 3-14-01; 8:45 am]

BILLING CODE 6717-01-M